DEPARTMENT OF HEALTH AND HUMAN SERVICES

National Institutes of Health

Government-Owned Inventions; Availability for Licensing; Correction

AGENCY: National Institutes of Health, HHS.

ACTION: Notice; correction.

SUMMARY: The Department of Health and Human Services, National Institutes of Health published a Notice in the Federal Register on October 1, 2020. That Notice requires a correction in the SUPPLEMENTARY INFORMATION section.

FOR FURTHER INFORMATION CONTACT: Amy F. Petrik, Ph.D., licensing contact, 240-627-3721; amy.petrik@nih.gov. Licensing information and copies of the U.S. patent application may be obtained by communicating with the licensing contact at the Technology Transfer and Intellectual Property Office, National Institute of Allergy and Infectious Diseases, 5601 Fishers Lane, Rockville, MD 20852; tel. 301-496-2644. A signed Confidential Disclosure Agreement will be required to receive copies of unpublished patent applications.

SUPPLEMENTARY INFORMATION:

Correction

In the Federal Register of October 1, 2020, in FR Doc. 2020-21708, on page 61961, as found within the SUPPLEMENTARY INFORMATION section. The title of the invention, currently reads “Structure-Based Design of SARS2-CoV-2 Spike Immunogens Stabilized in the RBD-All Down Conformation” and should read “Structure-Based Design of SARS-CoV-2 Spike Immunogens Stabilized in the RBD-All Down Conformation”.

Dated: October 5, 2020.
Daniel R Hernandez,
Federal Register Officer, National Institutes of Health.

[FR Doc. 2020-22370 Filed 10-8-20; 8:45 am]

BILLING CODE 4140-01-P